DEPARTMENT OF HEALTH AND HUMAN SERVICES

Centers for Disease Control and Prevention

[Program Announcement 02204]

University of Louisville Center for Deterrence of Biowarfare and Bioterrorism; Notice of Award of Funds

A. Purpose

The Centers for Disease Control and Prevention (CDC) announces the award of fiscal year (FY) 2002 funds for a cooperative agreement program for the University of Louisville (UoL), Center for Deterrence of Biowarfare and Bioterrorism (CDBB).

The purpose of the program is to develop communication and epidemiological capabilities that will facilitate detection and response to bioterrorism in protection of public health, provide effective education for health care providers in defense against bioterrorism, and conduct research to deter bioterrorism through enhanced medical and public health response capabilities. This program addresses the “Healthy People 2010” focus areas of Public Health Infrastructure and eliminating health disparities.

B. Eligible Applicant

Assistance is provided only to the University of Louisville, Center for Deterrence of Biowarfare and Bioterrorism. No other applications were solicited. The House of Representatives Conference Report accompanying the Departments of Labor, Health, and Human Services, and Education and Related Agencies Appropriation Bill ending September 30, 2002, and For Other Purposes (H.R. 3061, 107th Congress), recognized the University of Louisville's unique qualifications for carrying out the activities specified in this grant (H.R. Rep. 107-342).

C. Funds

Approximately $1,483,481 is being awarded in FY 2002. It is expected that the award will begin on or about August 1, 2002 and will be made for a 12-month budget period.

D. Where To Obtain Additional Information

To obtain business management technical assistance, contact: Sharon H. Robertson, Grants Management Specialist, Procurement and Grants Office, Centers for Disease Control and Prevention, 2920 Brandywine Rd, Room 3000, Mailstop K-75, Atlanta, GA 30341-4146, Email address: sqr2@cdc.gov.

For program technical assistance, contact: Gail Williams, MPH, CHES, Public Health Practice Program Office, Centers for Disease Control and Prevention, 4770 Buford Hwy. NE, Mailstop K-38, Atlanta, GA 30341-3717, Telephone number: 770-488-8166.

Dated: August 6, 2002.
Sandra R. Manning,
Director, Procurement and Grants Office, Centers for Disease Control and Prevention.

[FR Doc. 02-20813 Filed 8-15-02; 8:45 am]

BILLING CODE 4163-18-P